DEPARTMENT OF HEALTH AND HUMAN SERVICES

Centers for Disease Control and Prevention

The National Institute for Occupational Safety and Health; Notice of Meeting

The National Institute for Occupational Safety and Health (NIOSH) of the Centers for Disease Control and Prevention (CDC) announces the following meeting:

Name: Conceptual Discussions for Powered Air Purifying Respirator Standards Development Efforts Used for Respiratory Protection Against Chemical, Biological, Radiological, and Nuclear (CBRN) Agents.

Date and Time: October 16, 2003; 9 a.m.-3 p.m.

Place: The Radisson Hotel at Waterfront Place, 2 Waterfront Place, Morgantown, West Virginia.

Status: This meeting is hosted by NIOSH and will be open to the public, limited only by the space available. The meeting room will accommodate approximately 175 people. Interested parties should make hotel reservations directly with the Radisson Hotel at Waterfront Place (304/296-1700 or 1-800-333-3333) before the cut-off date of October 2, 2003. The following special group rates have been negotiated for meeting guests: $66.00 per night for Federal guests and $79.00 per night for non-Federal guests. The NIOSH National Personal Protective Technology Laboratory (NPPTL) Public Meeting must be referenced to receive these special rates. Interested parties should confirm their attendance to this meeting by completing a registration form and forwarding it by e-mail (npptlevents@cdc.gov) or fax (304-285-4459) to the NIOSH Event Management Office. A registration form may be obtained from the NIOSH homepage (www.cdc.gov/niosh) by selecting Conferences and then the event.

An opportunity to make presentations regarding the conceptual discussions of standards and testing processes for powered air purifying respirator standards suitable for respiratory protection against CBRN Agents will be given. Requests to make such presentations at the public meeting should be made by e-mail (npptlevents@cdc.gov) to the NIOSH Event Management Office. All requests to present should include the name, address, telephone number, relevant business affiliations of the presenter, a brief summary of the presentation, and the approximate time requested for the presentation. Oral presentations should be limited to 15 minutes. After reviewing the requests for presentations, NIOSH Event Management will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Comments on the topics presented in this notice and at the meeting should be mailed to the NIOSH Docket Office, Robert A. Taft Laboratories, M/S C34, 4676 Columbia Parkway, Cincinnati, Ohio 45226, Telephone 513-533-8303, Fax 513/533-8285. Comments may also be submitted by e-mail to niocindocket@cdc.gov. E-mail attachments should be formatted as WordPerfect 6/7/8/9 or Microsoft Word. Comments should be submitted to NIOSH no later than November 16, 2003, and should reference Docket Number NIOSH-010 in the subject heading.

Purpose: NIOSH will initiate conceptual discussions of standards and testing processes for powered air purifying respirator standards suitable for respiratory protection against CBRN Agents. NIOSH, along with the U.S. Army Soldier and Biological Chemical Command (SBCCOM) and the National Institute for Standards and Technology (NIST), will present information to attendees concerning the concept development for the powered air purifying respirator CBRN standard. Participants will be given an opportunity to ask questions on these topics and to present individual comments for consideration. Interested participants may obtain a copy of the powered air purifying respirator CBRN concept paper, as well as earlier versions of other concept papers used during the standard development effort, from the NPPTL Web site, address: www.cdc.gov/niosh/npptl. The September 15, 2003, concept paper will be used as the basis for discussion at the public meeting, as well as forming the basis for the new powered air purifying respirator CBRN statement of standard. The continuing threat of acts of terrorism has created an urgent awareness of domestic security and preparedness issues. Municipal, State, and Federal responder groups, particularly those in locations considered potential targets, have been developing and modifying response and consequence management plans. Since the World Trade Center and anthrax incidents, most emergency response agencies have operated with a heightened appreciation of the potential scope and sustained resources requirements for coping with such events. The Federal Interagency Board for Equipment Standardization and Interoperability (IAB) has worked to identify personal protective equipment that is already available on the market for responders' use. The IAB has identified the development of standards or guidelines for respiratory protection equipment as a top priority. NIOSH, NIST, the National Fire Protection Association, and the Occupational Safety and Health Administration entered into a Memorandum of Understanding defining each agency or organization's role in developing, establishing, and enforcing standards or guidelines for responders' respiratory protective devices. NIST initiated Interagency Agreements with NIOSH and SBCCOM to aid in the development of appropriate protection standards or guidelines. NIOSH has the lead in developing standards or guidelines to test, evaluate, and approve respirators. NIOSH, SBCCOM, and NIST hosted public meetings on April 17 and 18, 2001; June 18 and 19, 2002; October 16 and 17, 2002; April 29, 2003; and June 25, 2003, presenting their progress in assessing respiratory protection needs of responders to CBRN incidents. The methods or models for developing hazard and exposure estimates, and the status in evaluating test methods and performance standards that may be applicable as future CBRN respirator standards or guidelines were discussed at these meetings.

For Further Information Contact: NIOSH Event Management, 3610 Collins Ferry Road, P.O. Box 880, Morgantown, West Virginia 26507-0880, Telephone 304-285-4750, Fax 304-285-4459, E-mail npptlevents@cdc.gov.

The Director, Management Analysis and Services Office, has been delegated the authority to sign Federal Register notices pertaining to announcements of meetings and other committee management activities, for both the Centers for Disease Control and Prevention and the Agency for Toxic Substances and Disease Registry.

Dated: September 11, 2003.
Alvin Hall,
Director, Management Analysis and Services Office, Centers for Disease Control and Prevention.

[FR Doc. 03-23686 Filed 9-16-03; 8:45 am]

BILLING CODE 4163-19-P